GENERAL SERVICES ADMINISTRATION

Federal Management Regulation; Conversion to Commercial Payment Processes for Postage

AGENCY: General Services Administration (GSA).

ACTION: Notice of a bulletin.

SUMMARY: The General Services Administration (GSA) is announcing Federal Management Regulation (FMR) Bulletin G-02, which extends the previous 12-month deviation granted by GSA Bulletin FMR G-01 regarding conversion to commercial payment processes for postage. The deviation is being extended another 12 months to allow for more time for comments on the proposed amendments that were announced in the proposed rule on mail accountability published in the Federal Register on January 9, 2009 (74 FR 870). GSA Bulletin FMR G-02 and all FMR bulletins may be found at http://www.gsa.gov/fmrbulletin.

DATES: This bulletin is effective from April 13, 2009, until April 13, 2010.

FOR FURTHER INFORMATION CONTACT: For clarification of content, contact Ken Stacey, Program Director, Mail Management Policy, Office of Governmentwide Policy, General Services Administration, Washington, DC 20405, at (202) 501-1786 or ken.stacey@gsa.gov. Please cite Bulletin FMR G-02.

SUPPLEMENTARY INFORMATION:

A. Background

GSA regulations initially published in the Federal Register June 6, 2002 (67 FR 38899) require that all payments to the United States Postal Service must be made using commercial payment processes, not OMAS (Official Mail Accounting System). The initial conversion date of October 1, 2003, was subsequently changed to December 31, 2003 by amendment in the Federal Register on September 29, 2003 (68 FR 56112). If agencies did not convert by that date, they were required to submit a deviation request for an extension. If granted, the deviations could last for no longer than a two-year period per internal GSA policy, at which time agencies had to request another deviation.

FMR Bulletin G-01 was published in the Federal Register on May 13, 2008 (73 FR 27540) with an effective date of April 11, 2008, until April 13, 2009. FMR Bulletin G-02 extends the provisions of FMR Bulletin G-01 until April 13, 2010. GSA Bulletin FMR G-02 and all FMR bulletins may be found at http://www.gsa.gov/fmrbulletin.

Dated: April 13, 2009.
Russell H. Pentz,
Assistant Deputy Associate Administrator.

[FR Doc. E9-8884 Filed 4-16-09; 8:45 am]

BILLING CODE 6820-14-P